DEPARTMENT OF COMMERCE

National Oceanic and Atmospheric Administration

RIN 0648-XC940

New England Fishery Management Council; Public Meeting

AGENCY: National Marine Fisheries Service (NMFS), National Oceanic and Atmospheric Administration (NOAA), Commerce.

ACTION: Notice; public meeting.

SUMMARY: The New England Fishery Management Council's (Council) Groundfish Oversight Committee will meet to consider actions affecting New England fisheries in the exclusive economic zone (EEZ).

DATES: The meeting will be held Monday, November 18, 2013 through Tuesday, November 19, 2013. See SUPPLEMENTARY INFORMATION for specific times.

ADDRESSES: Meeting address: The meeting will be held at the Newport Marriott Hotel, 25 America's Cup Ave., Newport, RI; telephone: (401) 849-1000; fax: (401) 849-3422.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION: The Groundfish Oversight Committee will meet on November 18 and 19, 2013 to discuss issues related to the Northeast Multispecies Fishery Management Plan, the agenda for each day are as follows:

Monday, November 18, 2013 Beginning at 9:30 a.m.

The Committee will review Plan Development Team (PDT) work related to the development of Amendment 18; hold a session on the excessive share analysis being conducted by the contractor, Compass Lexecon, and discuss potential measures.

Tuesday, November 19, 2013 Beginning at 9 a.m.

The Committee will review PDT work related to the impacts of the alternatives under consideration in Framework 51 and potentially select preferred alternatives. They will discuss other business as necessary on both days.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Thomas A. Nies (see ADDRESSES) at least 5 days prior to the meeting date.

Authority: 16 U.S.C. 1801 et seq.

Dated: October 29, 2013.
Tracey L. Thompson,
Acting Deputy Director, Office of Sustainable Fisheries, National Marine Fisheries Service.

[FR Doc. 2013-26065 Filed 10-31-13; 8:45 am]

BILLING CODE 3510-22-P